DEPARTMENT OF HEALTH AND HUMAN SERVICES

Health Resources and Services Administration

Federal Assistance to the Columbia Hospital for Women Medical Center Community Outreach Programs

AGENCY: Health Resources and Services Administration, HHS.

ACTION: Notice of grant award.

SUMMARY: The Maternal and Child Health Bureau (MCHB), Health Resources and Services Administration (HRSA), awarded a grant for $5 million in fiscal year (FY) 2001 to Columbia Hospital for Women Medical Center, in Washington, DC. The grant supports community outreach programs for women. The award was made from funds appropriated under Public Law 106-554 (HHS Appropriation Act for FY 2001). As part of MCHB's overall appropriation, monies were specifically designated to support the Columbia Hospital for Women Medical Center project. The grant for the project is a Special Project of Regional and National Significance authorized by section 501(a)(2) of the Social Security Act, the Maternal and Child Health Federal Set-Aside Program.

SINGLE SOURCE JUSTIFICATION: The HRSA is providing Federal financial assistance to the Columbia Hospital for Women Medical Center to support infrastructure development of community outreach programs for women (and their high risk infants), to: (1) Maintain capacity and increase coordination of primary care and preventive services for women and high risk infants who have limited access to these health services; and (2) develop a sustainable system of care for these women and high risk infants.

The grant supports four key outreach programs needed by the local community and uniquely available at Columbia Hospital for Women: the Teen Health Center; Ambulatory Care Center; Low-Income Mammography Program of the Betty Ford Comprehensive Breast Center; and High Risk Infant Development and Follow-up Program. The project will utilize existing resources to build relationships, attract additional support, and develop a sustainable system of care for women with limited access to care in the District of Columbia. The goal is to establish or improve community outreach strategies to recruit and retain women in the hospital's comprehensive and preventive women's health services programs.

AVAILABILITY OF FUNDS: Approximately $5 million was made available for obligation to support this project for a single project/budget period beginning in FY 2001, extending from April 1, 2001 through September 29, 2002.

OTHER AWARD INFORMATION: This program is not subject to the provisions of Executive Order 12372, Intergovernmental Review of Federal programs (as implemented by 45 CFR part 100). This is intended to be a one-time program, and, therefore, a Catalog of Federal Domestic Assistance number was not requested.

FOR FURTHER INFORMATION: Contact: Ann M. Koontz, Dr.P.H., C.N.M., Division of Perinatal and Women's Health, Maternal and Child Health Bureau, HRSA, 5600 Fishers Lane, Room 11A-05, Rockville, MD 20857, 301-443-6327.

Dated: April 2, 2001.
Elizabeth M. Duke,
Acting Administrator.

[FR Doc. 01-10530 Filed 4-26-01; 8:45 am]

BILLING CODE 4160-15-P